DEPARTMENT OF HEALTH AND HUMAN SERVICES

Centers for Disease Control and Prevention

[30Day-14-14AAO]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Testing Act Early Messages and Materials for “Learn the Signs. Act Early.”—Phase II,—New—National Center on Birth Defects and Developmental Disabilities (NCBDDD), Centers for Disease Control and Prevention (CDC).

Background and Brief Description

The CDC initiated the “Learn the Signs. Act Early.” (LTSAE) campaign in 2004 in an effort to improve the likelihood that children with developmental disabilities are identified and connected with appropriate services at the earliest age possible. To this end, the campaign's overall goal has been to empower parents to “Act Early” if they have concerns about their child's development. Children from families insured by Medicaid and those from families with low incomes are at higher risk for developmental delays and disabilities, and thus are the target audience for the campaign.

The study described in this information collection request seeks to assess the impact of “Act Early” messages embedded within LTSAE campaign materials. To achieve this goal, we will work with our contractor, Westat, to test revised draft messages and materials with low-income parents through focus groups and intercept interviews administered via the web on a tablet device. Parents/guardians who are age 18-55 and who have children age 5 or younger will recruited from six primary care practices (3 in the Baltimore, Maryland metropolitan area and 3 in the Atlanta, Georgia metropolitan area) to participate in focus groups followed by an intercept interview.

Selected primary care practices will see children as part of their patient population and consist of a substantial number of low income families. Each of the six selected practices will receive study promotional materials, including a poster to hang in the office and waiting room as well as handouts to leave at the front desk. These materials will advertise the focus groups and outline eligibility criteria.

Parents interested in participating will be advised to call an 800 number to be screened and scheduled for a group discussion (if eligible). The 800 number will be staffed by the Westat study team who will be responsible for screening and scheduling. Representatives from each of the practices will be provided with brief “talking points” and study FAQs to refer to if interested parents have any basic questions about the study. It is estimated that 80 respondents will have to be screened in order to recruit 40 participants for the focus groups.

The focus groups will have 10 participants each. Four focus groups will be conducted in two locations (the metropolitan areas of Atlanta, Georgia and Baltimore, Maryland) with a total of 40 participants. Parents/guardians will be asked to complete an informed consent, which will take approximately 15 minutes to review and the focus group discussion using the moderator's guide will take 60 minutes to complete. Both of these focus group activities will have a total burden of 50 hours.

We plan to conduct a total of 40 intercept interviews. The intercept interviews will take place in the waiting rooms or right outside the waiting rooms. Parents will be recruited as they are waiting for their appointment. It is estimated that 80 respondents will have to be screened in order to recruit 40 participants. Twenty interviews will be conducted in each of two locations (Atlanta, Georgia and Baltimore, Maryland). The intercept interview will be conducted as a computer-assisted personal interviewing (CAPI) and will take each respondent approximately 15 minutes to complete, for an estimated total burden of 10 hours.

The total estimated burden for this data collection is 74 hours. There is no cost to respondents other than their time.

Estimated Annualized Burden Hours
Type of respondent | Form name | Number of respondents | Number of responses per respondent | Average burden per response (in hours)
Parents/Guardians | Focus Group Screener | 80 | 1 | 5/60
Parents/Guardians | Focus Group Informed Consent | 40 | 1 | 15/60
Parents/Guardians | Focus Group Moderator's Guide | 40 | 1 | 1
Parents/Guardians | Intercept Interview Screener | 80 | 1 | 5/60
Parents/Guardians | Intercept Interview | 40 | 1 | 15/60

LeRoy A. Richardson,
Chief, Information Collection Review Office, Office of Scientific Integrity, Office of the Associate Director for Science, Office of the Director, Centers for Disease Control and Prevention.

[FR Doc. 2014-20876 Filed 9-2-14; 8:45 am]

BILLING CODE 4163-18-P